COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds products and services to the Procurement List that will be furnished by nonprofit agencies employing persons who are blind or have other severe disabilities, and deletes a service from the Procurement List previously provided by such agency.

DATES: Effective Date: 6/17/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 3/15/2013 (78 FR 16475-16476) and 3/22/2013 (78 FR 17641-17642), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: MR 1147—Christmas Novelty Flag, Decorative, 28″ x 40″.

NPA: Winston-Salem Industries for the Blind, Inc., Winston-Salem, NC.

Contracting Activity: Defense Commissary Agency, Fort Lee, VA.

Coverage: C-List for the requirements of military commissaries and exchanges as aggregated by the Defense Commissary Agency.

NSN: 7510-01-389-2262—Self Stick Rectangular Flag, “Sign Here”, 1.0″ x 1.75″, Yellow, 100 Flags per pack.

NPA: Association for the Blind and Visually Impaired—Goodwill Industries of Greater Rochester, Rochester, NY.

Contracting Activity: General Services Administration, New York, NY.

Coverage: A-List for the Total Government Requirement as aggregated by the General Services Administration.

Ice Melt/De-Icer

NSN: 6850-01-598-1946—10 lbs.

NSN: 6850-01-598-1926—20 lbs.

NSN: 6850-01-598-1933—40 lbs.

NPA: Bosma Industries for the Blind, Inc., Indianapolis, IN

Contracting Activity: Defense Logistics Agency Aviation, Richmond, VA

Coverage: B-List for the Total Government Requirement as aggregated by the Defense Logistics Agency Aviation, Richmond, VA.

Services

Service Type/Location: Landscaping Maintenance Service, Defense Contract Management Agency (DCMA), Buildings 10500, 10501, 10201 and 1024, 3901 A Avenue, Fort Lee, VA.

NPA: Richmond Area Association for Retarded Citizens, Richmond, VA.

Contracting Activity: Defense Contract Management Agency (DCMA), Fort Lee, VA.

Service Type/Location: Tactical Vehicle Wash Facility Service, Yano Tactical Vehicle Wash Facility, Directorate of Training Sustainment, Harmony Church, Building 5525, Fort Benning, GA.

NPA: Power Works Industries, Inc., Columbus, GA.

Contracting Activity: Dept of the Army, W6QM MICC-Ft Benning, Fort Benning, GA.

Service Type/Location: Grounds Maintenance and Snow Removal Service, Army Corps of Engineers District Headquarters Bldg., 201 North Third Ave., Walla Walla, WA.

NPA: Lillie Rice Center, Walla Walla, WA.

Contracting Activity: Dept of the Army, W071 Endist Walla Walla, Walla Walla, WA.

Service Type/Location: Operations Support Service, Defense Health Headquarters, 7700 Arlington Blvd., Falls Church, VA.

NPA: Linden Resources, Inc., Arlington, VA.

Contracting Activity: Washington Headquarters Services (WHS), Acquisition Directorate, Washington, DC.

Deletion

On 4/5/2013 (78 FR 20622-20623), the Committee for Purchase From People Who Are Blind or Severely Disabled published notice of proposed deletions from the Procurement List.

After consideration of the relevant matter presented, the Committee has determined that the service listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to provide the service to the Government.

3. There are no known regulatory alternatives which would accomplish the objectives of the Javits-Wagner-O'Day Act (41 U.S.C. 8501-8506) in connection with the service deleted from the Procurement List.

End of Certification

Accordingly, the following service is deleted from the Procurement List:

Service

Service Type/Location: Janitorial/Custodial Service, U.S. Army Reserve Center: Wilkes-Barre, 1001 Highway 315, Wilkes-Barre, PA.

NPA: United Rehabilitation Services, Inc., Wilkes-Barre, PA.

Contracting Activity: Dept of the Army, W6QM MICC-Ft Dix (RC-E), Fort Dix, NJ.

Barry S. Lineback,
Director, Business Operations.

[FR Doc. 2013-11766 Filed 5-16-13; 8:45 am]

BILLING CODE 6353-01-P